DEPARTMENT OF ENERGY

Federal Energy Regulatory Commission

[Docket No. RP02-34-001]

Eastern Shore Natural Gas Company; Notice of Compliance Filing

November 26, 2002.

Take notice that on November 21, 2002, Eastern Shore Natural Gas Company (Eastern Shore) tendered for filing as part of its FERC Gas Tariff, Second Revised Volume No. 1, the following revised tariff sheets, with an effective date of December 1, 2002:

Ninth Revised Sheet No. 4

Eighth Revised Sheet No. 5

Eighth Revised Sheet No. 6

Eastern Shore states such revised tariff sheets have been filed in accordance with the Stipulation and Agreement (S & A) approved by the Commission on October 10, 2002 (101 FERC ¶ 61,011, 2002), in the above-referenced docket.

Eastern Shore states that Article V, Paragraph 8 of the above-referenced S&A specifies that within 15 days after the date upon which the Commission's order approving the Stipulation becomes final, Eastern Shore shall file with the Commission revised rate tariff sheets reflecting the cost of service settlement base rates to be effective as of the first day of the month following the date of the Commission's order. The Commission's order became final on November 12, 2002.

Eastern Shore states that copies of its filing has been mailed to affected customers and interested state commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-30718 Filed 12-3-02; 8:45 am]

BILLING CODE 6717-01-P